DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northwest Region Logbook Family of Forms.

OMB Control Number: 0648-271.

Form Number(s): NA.

Type of Request: Regular submission.

Number of Respondents: 45.

Average Hours per Response: Daily fishing and cumulative production report (catchers) and Daily fish received and cumulative production report (motherships): 13 minutes; Daily fishing and cumulative production report (catcher-processors), 26 minutes; weekly production reports, 15 minutes; product transfer/offloading logbooks, 20 minutes; start/stop notices, 1 minute.

Burden Hours: 937.

Needs and Uses: This information collection for which we are requesting renewal is authorized by the Pacific Coast Groundfish Fishery Management Plan (FMP) which was developed by the Pacific Fisheries Management Council (Council) under the Magnuson-Stevens Fisheries Conservation and Management Act (Magnuson Act), 16 U.S.C. 1801 et seq. The FMP governs the groundfish fishery off Washington, Oregon, and California (WOC).

This comprehensive Federal Fisheries data collection program includes recordkeeping and reporting requirements for fish processing vessels over 125 feet in length (at sea processors, which includes catcher/processors and motherships) and catcher vessels that deliver to motherships operating in the waters off WOC. This information is used by the observers at-sea to obtain fishing effort information and would also be used to estimate catch if observer data were not available (i.e., illness or injury of the observer) or to verify observer data.

Affected Public: Business or other for-profit organizations.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 20, 2009.
Gwellnar Banks,
Management Analyst, Office of the Chief Information Officer.

[FR Doc. E9-25593 Filed 10-23-09; 8:45 am]

BILLING CODE 3510-22-P